FEDERAL COMMUNICATIONS COMMISSION

47 CFR Part 73

[DA 05-2935; MB Docket No. 02-123, RM-10445]

Radio Broadcasting Services; Terrebonne, OR

AGENCY: Federal Communications Commission.

ACTION: Final rule.

SUMMARY: The Audio Division, at the request of Hunt Broadcasting, Inc., allots Channel 293C2 at Terrebonne, Oregon, as the community's first local FM service. Channel 293C2 can be allotted to Terrebonne, Oregon, in compliance with the Commission's minimum distance separation requirements with a site restriction of 19.8 km (12.3 miles) southeast of Terrebonne. The coordinates for Channel 293C2 at Terrebonne, Oregon, are 44-14-50 North Latitude and 120-58-39 West Longitude.

DATES: Effective December 22, 2005.

FOR FURTHER INFORMATION CONTACT: Deborah Dupont, Media Bureau, (202) 418-2180.

SUPPLEMENTARY INFORMATION: This is a synopsis of the Commission's Report and Order, MB Docket No. 02-123, adopted November 4, 2005, and released November 7, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Terrebonne, Channel 293C2.

Federal Communications Commission.
John A. Karousos,
Assistant Chief, Audio Division, Media Bureau.

[FR Doc. 05-22986 Filed 11-22-05; 8:45 am]

BILLING CODE 6712-01-P